DEPARTMENT OF AGRICULTURE

Food Safety and Inspection Service

9 CFR Parts 317 and 381

[Docket No. FSIS-2006-0045]

RIN 0583-AD05

Uniform Compliance Date for Food Labeling Regulations

AGENCY: Food Safety and Inspection Service, USDA.

ACTION: Final rule.

SUMMARY: The Food Safety and Inspection Service (FSIS) is establishing January 1, 2010, as the uniform compliance date for new food labeling regulations that are issued between January 1, 2007, and December 31, 2008. FSIS periodically announces uniform compliance dates for new meat and poultry food labeling requirements to minimize the economic impact of label changes. On December 14, 2004, FSIS issued a final rule announcing that it will adopt uniform compliance dates and established January 1, 2008, as the uniform compliance date for food labeling regulations that issued between January 1, 2005, and December 31, 2006.

DATES: Effective Date: This rule is effective March 5, 2007. Submit comments by April 4, 2007.

ADDRESSES: FSIS invites interested persons to submit comments on this final rule. Comments may be submitted by any of the following methods:

• Federal eRulemaking Portal: This Web site provides the ability to type short comments directly into the comment field on this Web page or attach a file for lengthier comments. Go to http://www.regulations.gov and, in the “Search for Open Regulations” box, select “Food Safety and Inspection Service” from the Agency drop-down menu, then click on “Submit.” In the Docket ID column, select the FDMS Docket Number FSIS-2006-0045 to submit or view public comments and to view supporting and related materials available electronically.

• Mail, including floppy disks or CD-ROM's, and hand- or courier-delivered items: Send to FSIS Docket Room, Docket Clerk, U.S. Department of Agriculture (USDA), FSIS, 300 12th Street, SW., Room 102, Cotton Annex Building, Washington, DC 20250.

• Electronic mail: fsis.regulationscomments@fsis.usda.gov.

All submissions received must include the Agency name and docket number FSIS-2006-0045.

All comments submitted in response to this final rule, as well as research and background information used by FSIS in developing this document, will be posted to the regulations.gov Web site. The background information and comments will be available for public inspection in the FSIS Docket Room at the address listed above between 8:30 a.m. and 4:30 p.m., Monday through Friday.

FOR FURTHER INFORMATION CONTACT: Robert C. Post, Ph.D., Director, Labeling and Consumer Protection Staff, Office of Policy, Program, and Employee Development, FSIS, USDA, Washington, DC 20250-3700, Telephone (202) 205-0279, Fax (202) 205-3625.

SUPPLEMENTARY INFORMATION:

Background

FSIS periodically issues regulations that require changes in the labeling of meat and poultry food products. Many meat and poultry establishments also produce non-meat and non-poultry food products subject to the jurisdiction of the Food and Drug Administration (FDA). FDA also periodically issues regulations that require changes in the labeling of such food products.

FSIS established the approach, starting in December 2004 (69 FR 74405), that it will set uniform compliance dates in two year increments and periodically issue final rules announcing those dates. This approach is similar to that employed by FDA. Two year increments enhance the industry's ability to make orderly adjustments to new labeling requirements without unduly exposing consumers to outdated labels. With this approach to effecting compliance, the meat and poultry products industry is able to plan for the use of label inventories and to develop new labeling materials that meet the requirements of all labeling regulations made within the two year period, thereby minimizing the economic impact of labeling changes. By establishing a uniform compliance date that is the same as FDA's, FSIS is providing meat and poultry product manufacturers with a greater ability to adjust production plans to new labeling requirements across all of their product lines.

Establishing this policy also serves consumers' interests, because the cost of multiple short-term label revisions that would otherwise occur would likely be passed on to consumers in the form of higher prices.

It will remain FSIS' policy to encourage industry to comply with new labeling regulations as quickly as feasible. Thus, when industry members voluntarily change their labels, they should consider incorporating any new requirements that have been published as final regulations up to that time.

The new uniform compliance date will apply only to final FSIS regulations that require changes in the labeling of meat and poultry products and that are published after January 1, 2007, and before December 31, 2008. In each of these regulations, FSIS will specifically identify January 1, 2010, as the compliance date. All meat and poultry food products that are subject to labeling regulations promulgated between January 1, 2007, and December 31, 2008, will be required to comply with these regulations when introduced into commerce on or after January 1, 2010. If any food labeling regulation involves special circumstances that justify a compliance date other than January 1, 2010, the Agency will determine for that regulation an appropriate compliance date, which will be specified when the final regulation is published.

In rulemaking that began with the publication of a proposed rule on May 4, 2004, FSIS provided notice and solicited comments on the concept of establishing uniform compliance dates for labeling requirements (69 FR 24539). FSIS received only four comments, all fully supportive of the policy to set uniform compliance dates. Therefore, FSIS finds that further rulemaking for the establishment of uniform compliance dates for labeling requirements is unnecessary. However, FSIS is providing an opportunity for comment on whether the uniform compliance date established in this final rule should be modified or revoked.

Executive Order 12866: Benefit-Cost Analysis

FSIS has examined the impacts of the final rule under Executive Order 12866. Executive Order 12866 directs agencies to assess all costs and benefits of available regulatory alternatives and, when regulation is necessary, to select regulatory approaches that maximize net benefits (including potential economic, environmental, public health and safety, and other advantages; distributive impacts; and equity). This action has been determined to be not significant and, therefore, has not been reviewed by the Office of Management and Budget.

Establishing a uniform compliance date for all future Federal food product labeling regulations affecting the meat and poultry industry that are issued by FSIS over a two year period will eliminate potentially burdensome requirements otherwise faced by the industry.

The regulation also greatly limits the possibility of potentially conflicting compliance dates for labeling requirements developed for meat and poultry products and labeling requirements developed for non-meat and non-poultry products. It thus provides for an orderly industry adjustment to any new labeling requirements. Labeling changes in response to Federal regulations will likely be less frequent, and establishments will be able to plan for full utilization of their labeling stocks.

Need for the Rule

Establishing uniform compliance dates for food labeling regulations issued within specified time periods minimizes the economic impact of label changes for industry and may indirectly benefit consumers if cost savings are passed on in the form of lower prices.

Regulatory Flexibility Analysis

This rule does not have a significant economic impact on a substantial number of small entities. Consequently, an initial regulatory flexibility analysis is not required (5 U.S.C. 601-612). The uniform compliance date does not impose any burden on small entities. The Agency will conduct regulatory flexibility analyses of future labeling regulations if such analyses are required.

Paperwork Requirements

There are no paperwork or recordkeeping requirements associated with this policy under the Paperwork Reduction Act of 1995 (44 U.S.C. 3501-3520).

Expected Environmental Effects

The establishment of a uniform compliance date for food labeling regulations is an activity that will not have a significant individual or cumulative effect on the human environment. Therefore, this action is appropriately subject to the categorical exclusion from the preparation of an environmental assessment or environmental impact statement provided under 7 CFR 1b.4(6) of the U.S. Department of Agriculture regulations.

Additional Public Notification

Public awareness of all segments of rulemaking and policy development is important. Consequently, in an effort to ensure that minorities, women, and persons with disabilities are aware of this rule, FSIS will announce it on-line through the FSIS Web page located at http://www.fsis.usda.gov/regulations_&_policies/2007_Interim_&_Final_Rules_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov/.

FSIS also will make copies of this Federal Register publication available through the FSIS Constituent Update, which is used to provide information regarding FSIS policies, procedures, regulations, Federal Register notices, public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service that provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done at Washington, DC, on: February 27, 2007.
David P. Goldman,
Acting Administrator.

[FR Doc. E7-3725 Filed 3-2-07; 8:45 am]

BILLING CODE 3410-DM-P